DEPARTMENT OF STATE

[Public Notice 9243]

Determination Under Section 610 of the Foreign Assistance Act of 1961, as Amended

Pursuant to the authority vested in me by Section 610 of the Foreign Assistance Act of 1961, as amended (the “Act”), and the President's Memorandum of Delegation dated March 31, 2015, I hereby determine it necessary for the purposes of the Act that pursuant to the relevant authorities of the Act, the following funds be transferred to, and consolidated with, funds made available under Chapter 4 of Part II of the Act, and such funds are hereby so transferred and consolidated:

• $44,979,000 of Fiscal Year (FY) 2014 funds from the International Narcotics Control and Law Enforcement—Overseas Contingency Operations (INCLE-OCO) account to the Economic Support Fund—Overseas Contingency Operations (ESF-OCO) account;

• $10,500,000 of FY 2014 funds from the Foreign Military Financing—Overseas Contingency Operations (FMF-OCO) account to the ESF-OCO account; and

• $32,176,000 of FY 2014 funds from the Nonproliferation, Antiterrorism, Demining, and Related Programs (NADR) account to the ESF-OCO account.

This determination shall be reported to Congress and published in the Federal Register.

Dated: July 22, 2015.
John F. Kerry,
Secretary of State.

[FR Doc. 2015-21491 Filed 8-28-15; 8:45 am]

BILLING CODE 4710-10-P